DEPARTMENT OF TRANSPORTATION

Federal Highway Administration

Environmental Impact Statement: Klickitat and Skamania Counties, Washington and Hood River County, Oregon

AGENCY: Federal Highway Administration (FHWA), DOT.

ACTION: Notice of Intent.

SUMMARY: The FHWA is issuing this notice to advise the public that an Environmental Impact Statement (EIS) will be prepared for a proposed new Columbia River crossing project in Klickitat County or Skamania County, Washington and Hood River County, Oregon. Northern and southern termini for the new crossing would be located in or near the cities of White Salmon and Bingen, Washington, and Hood River, Oregon.

FOR FURTHER INFORMATION CONTACT: Michael Kulbacki, Transportation and Environmental Engineer, Federal Highway Administration, 711 S. Capitol Way, Suite 501, Olympia, WA 98501, Telephone: 360-753-9556; or Dale Robins, Project Manager, Southwest Washington Regional Transportation Council, 1351 Officers Row, Vancouver, WA 98661, Telephone: 360-397-6067. Additional information can also be obtained at the project web site: http:www.rtc.wa.gov/studies/sr35.

SUPPLEMENTARY INFORMATION: The FHWA, in cooperation with the Washington State Department of Transportation, the Southwest Washington Regional Transportation Council, and the Oregon Department of Transportation, will prepare an EIS on a proposal to establish a new or improved transportation crossing of the Columbia River. This crossing will involve either existing facility improvements or new connections between SR 14 in Washington to SR 35 and/or I-84 in Oregon. The Washington State Department of Transportation has designated this proposed crossing as State Route 35 (SR-35).

A new or improved Columbia River crossing is necessary to effectively accommodate current and future traffic demands, address multi-modal accessibility, enhance movement of freight and other goods, improve public safety, and improve current and future traffic operations.

Alternatives under consideration include (1) no action; (2) multi-modal options; (3) improvements to traffic and toll operations, (4) improvements to the existing bridge; and (5) constructing a new bridge or tunnel at or near the existing location. Potential crossing corridors being evaluated along the Columbia River include: West Hood River I-84 interchange, Second Street in Hood River (using the City Center exit on I-84), the existing bridge crossing, and east of Hood River near Stanley Rock. Design variations being evaluated include adjustments to grade, alignment, and crossing type.

A series of preliminary meetings have already been conducted between various public groups, the project Steering Committee, a Local Advisory Committee, and a Resource and Regulatory agency Committee since this project has been introduced. The ideas presented at these meetings will be incorporated into the environmental process as will all the necessary impacts and alternatives required by the National Environmental Protection Act (NEPA) and Council on Environmental Quality (CEQ) regulations.

Letters soliciting comments will be sent to appropriate Federal, State, and Local agencies, including private organizations and citizens who have previously expressed or are known to have interest in this proposal.

A public scoping meeting will be held on March 8, 2001, from 5 to 8 p.m. at Fidel's at the Gorge (restaurant), located on SR 14 at 120 East Steuben in Bingen, Washington. On March 8, 2001, a resource and regulatory agency scoping meeting will be held in Troutdale, Oregon, at the Oregon Department of Transportation Maintenance Facility from 1:30 to 3:00 p.m. Notification of the public scoping meeting will be published in the local newspaper and through mailed announcements.

In addition, a public meeting will be held prior to completion of the draft EIS. Public notice will be given of the time and place of all proposed meetings during Draft and Final EIS development. The draft EIS will be made available to the public and all agencies for review and comment prior to all public meetings.

Interested parties are encouraged to provide suggestions and comments in order to ensure that the full range of issues related to this proposed action are addressed and all potential impacts identified. Comments or questions concerning this proposed action and the EIS should be directed to the FHWA, Washington Division or Southwest Washington Regional Transportation Council at the addresses or telephone numbers provided in the Contact Information Section.

(Catalog of Federal Domestic Assistance Program Number 20.205, Highway Planning and Construction. The regulations implementing Executive Order 12372 regarding intergovernmental consultation on Federal programs and activities apply to this program)

Issued on: February 14, 2001.
Michael Kulbacki,
Transportation and Environmental Engineer, Olympia, Washington.

[FR Doc. 01-4706 Filed 2-26-01; 8:45 am]

BILLING CODE 4910-22-M